DEPARTMENT OF ENERGY

Federal Energy Regulatory Commission

Combined Notice of Filings #1

Take notice that the Commission received the following electric rate filings:

Docket Numbers: ER13-1065-000.

Applicants: Northern States Power Company, a Minnesota corporation.

Description: 2013-7-9-CAPX-CMA-BRKGS-Refund Report to be effective N/A.

Filed Date: 7/9/13.

Accession Number: 20130709-5136.

Comments Due: 5 p.m. ET 7/30/13.

Docket Numbers: ER13-1066-000.

Applicants: Northern States Power Company, a Minnesota corporation.

Description: 2013-7-9-CAPX-BRKGS-OMA-Refund Report to be effective N/A.

Filed Date: 7/9/13.

Accession Number: 20130709-5138.

Comments Due: 5 p.m. ET 7/30/13.

Docket Numbers: ER13-1067-000.

Applicants: Northern States Power Company, a Minnesota corporation.

Description: 2013-7-9-CAPX-BRKGS-TCEA-Refund Report to be effective N/A.

Filed Date: 7/9/13.

Accession Number: 20130709-5139.

Comments Due: 5 p.m. ET 7/30/13.

Docket Numbers: ER13-1299-000.

Applicants: PacifiCorp.

Description: BPA AC Intertie O&M Agreement Informational Report to be effective N/A.

Filed Date: 7/9/13.

Accession Number: 20130709-5152.

Comments Due: 5 p.m. ET 7/30/13.

Docket Numbers: ER13-1912-000.

Applicants: Guzman Power Markets.

Description: GPM FERC Filing Transmittal Letter to be effective 8/20/2013.

Filed Date: 7/9/13.

Accession Number: 20130709-5118.

Comments Due: 5 p.m. ET 7/30/13.

Docket Numbers: ER13-1913-000.

Applicants: Southern California Edison Company.

Description: Amended LGIA with North Sky River Energy, LLC to be effective 7/10/2013.

Filed Date: 7/9/13.

Accession Number: 20130709-5142.

Comments Due: 5 p.m. ET 7/30/13.

Docket Numbers: ER13-1914-000.

Applicants: Southwest Power Pool, Inc.

Description: Creditable Upgrades Under Attachment Z2 to be effective 9/8/2013.

Filed Date: 7/9/13.

Accession Number: 20130709-5155.

Comments Due: 5 p.m. ET 7/30/13.

Docket Numbers: ER13-1915-000.

Applicants: Public Service Company of Colorado.

Description: 2013_07_09_NSP-SPNR-L-Tran-to Load-NOC-548 to be effective 6/13/2013.

Filed Date: 7/10/13.

Accession Number: 20130710-5000.

Comments Due: 5 p.m. ET 7/31/13.

Docket Numbers: ER13-1916-000.

Applicants: Arizona Public Service Company.

Description: Amendments to reflect APS Acquisition of portions of Four Corners Units 4&5 to be effective 12/31/9998.

Filed Date: 7/10/13.

Accession Number: 20130710-5001.

Comments Due: 5 p.m. ET 7/31/13.

Docket Numbers: ER13-1917-000.

Applicants: Arizona Public Service Company.

Description: Amendment of Shiprock Four Corners Project Interconnection AG to be effective 12/31/9998.

Filed Date: 7/10/13.

Accession Number: 20130710-5003.

Comments Due: 5 p.m. ET 7/31/13.

Docket Numbers: ER13-1918-000.

Applicants: Arizona Public Service Company.

Description: Edison Navajo Transmission Agreement as APS Rate Schedule No. 267 to be effective 12/31/9998.

Filed Date: 7/10/13.

Accession Number: 20130710-5004.

Comments Due: 5 p.m. ET 7/31/13.

Docket Numbers: ER13-1919-000.

Applicants: PPL Montana, LLC.

Description: PPL Montana, LLC submits Notice of Cancellation of Power Purchase and Sales Agreement with Energy West Resources, Inc.

Filed Date: 7/9/13.

Accession Number: 20130709-5179.

Comments Due: 5 p.m. ET 7/30/13.

Docket Numbers: ER13-1920-000.

Applicants: Wisconsin Electric Power Company.

Description: Wisconsin Electric FERC Electric Tariff Volume No. 9 2013 update to be effective 9/9/2013.

Filed Date: 7/10/13.

Accession Number: 20130710-5030.

Comments Due: 5 p.m. ET 7/31/13.

Docket Numbers: ER13-1921-000.

Applicants: Wisconsin Electric Power Company.

Description: Wisconsin Electric and WPPI Rate Schedule FERC No. 90 2013 revisions to be effective 9/9/2013.

Filed Date: 7/10/13.

Accession Number: 20130710-5031.

Comments Due: 5 p.m. ET 7/31/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2013.
Nathaniel J. Davis, Sr.,
Deputy Secretary.

[FR Doc. 2013-17379 Filed 7-18-13; 8:45 am]

BILLING CODE 6717-01-P